DEPARTMENT OF LABOR

Mine Safety and Health Administration

Petitions for Modification

The following parties have filed petitions to modify the application of existing safety standards under section 101(c) of the Federal Mine Safety and Health Act of 1977.

1. Solid Rock Construction, Inc.

[Docket No. M-2002-007-C]

Stamper Technical Service, Inc., 45 Stamper Lane, Pikeville, Kentucky 41501 has filed a petition for Solid Rock Construction, Inc., No. 1 Mine (I.D. No. 15-16643) located in Pike County, Kentucky, to modify the application of 30 CFR 75.503 (Permissible electric face equipment; maintenance) and 30 CFR 18.41(f) (Plug and receptacle-type connectors). The petitioner proposes to use permanently installed, spring-loaded locking devices to secure battery plugs on mobile battery-powered machines to prevent unintentional loosening of the battery plugs from battery receptacles, and to eliminate the potential hazards associated with difficult removal of padlocks during emergency situations. The petitioner asserts that using padlocks to secure battery plugs would result in diminution of safety to the miners.

2. Aaron Coal Company, L.L.C.

[Docket No. M-2002-008-C]

Stamper Technical Service, Inc., 45 Stamper Lane, Pikeville, Kentucky 41501 has filed a petition for the Aaron Coal Company, L.L.C., No. 2 Mine (I.D. No. 15-17813) located in Pike County, Kentucky, to modify the application of 30 CFR 75.503 (Permissible electric face equipment; maintenance) and 30 CFR 18.41(f) (Plug and receptacle-type connectors). The petitioner proposes to use permanently installed, spring-loaded locking devices to secure battery plugs on mobile battery-powered machines to prevent unintentional loosening of the battery plugs from battery receptacles, and to eliminate the potential hazards associated with difficult removal of padlocks during emergency situations. The petitioner asserts that using padlocks to secure battery plugs would result in diminution of safety to the miners.

3. M & H Coal Company

[Docket No. M-2002-009-C]

M & H Coal Company, P.O. Box 559, Hegins, Pennsylvania 17938 has filed a petition to modify the application of 30 CFR 75.1100-2(a) (Quantity and location of firefighting equipment) to its Mercury Slope Mine (I.D. No. 36-01920) located in Schuylkill County, Pennsylvania. The petitioner requests a modification of the standard to permit use of only portable fire extinguishers to replace existing requirements where rock dust, water cars, and other water storage equipped with three (3) ten quart pails is not practical. The petitioner proposes to use two (2) fire extinguishers near the slope bottom and an additional portable fire extinguisher within 500 feet of the working face for equivalent fire protection for the Mercury Slope Mine. The petitioner asserts that the proposed alternative method would provide at least the same measure of protection as the existing standard.

4. White County Coal, LLC

[Docket No. M-2002-010-C]

White County Coal, LLC, 1525 County Road 1300 N, P.O. Box 457, Carmi, Illinois 62821 has filed a petition to modify the application of 30 CFR 75.701 (Grounding metallic frames, casings, and other enclosures of electric equipment) to its Pattiki II Mine (I.D. No. 11-03058) located in White County, Illinois. The petitioner proposes to use a 200KW, 480-volt, diesel powered generator set with an approved diesel drive engine to move equipment in, out, and around the mine and to perform work in areas outby section loading points where equipment is not required to be maintained permissible. The petitioner asserts that the proposed alternative method would provide at least the same measure of protection as the existing standard.

5. Hobet Mining, Inc.

[Docket No. M-2002-011-C]

Hobet Mining, Inc., P.O. Box 305, Madison, West Virginia 25130 has filed a petition to modify the application of 30 CFR 77.206(c) (Ladders; construction; installation and maintenance) to its Beth Station No. 79 Preparation Plant (I.D. No. 46-05398) located in Boone County, West Virginia. The petitioner proposes to use a SAF-T-CLIMB fall prevention system on its counterweight tower structure for the overland system at the Beth Station No. 9 Preparation Plant in lieu of using a vertical ladder. The petitioner states that the counterweights are located inside the framework of a structure that is approximately 30 feet high, that the use of the SAF-T-CLIMB system would ensure the safety of individuals working around the counterweights, and that the SAF-T-CLIMB system would be installed so that it would be in compliance with OSHA regulations 29 CFR 1910.27. The petitioner asserts that application of the existing standard would result in a diminution of safety to the miners.

6. Energy West Mining Company

[Docket No. M-2002-012-C]

Energy West Mining Company, P.O. Box 310, Huntington, Utah 84528 has filed a petition to modify the application of 30 CFR 75.350 (Air courses and belt haulage entries) to its Deer Creek Mine (I.D. No. 42-00121) located in Emery County, Utah. The petitioner requests that Item IV(d)(3) & (4) of the proposed decision and order for its previously granted petition for modification, docket number M-1999-044-C be amended to allow the use of a non-approved diesel grader in the two-entry section with miners inby for maintenance purposes only. The petitioner asserts that the specific terms and conditions listed in this petition would be met before implementing its proposed amendments and that the proposed alternative method would provide at least the same measure of protection as the existing standard.

7. Snyder Coal Company

[Docket No. M-2002-013-C]

Snyder Coal Company, 66 Snyder Lane, Hegins, Pennsylvania 17938 has filed a petition to modify the application of 30 CFR 75.1100-2(a) (Quantity and location of firefighting equipment) to its N & L Slope Mine (I.D. No. 36-02203) located in Northumberland County, Pennsylvania. The petitioner requests a modification of the standard to permit use of only portable fire extinguishers to replace existing requirements where rock dust, water cars, and other water storage equipped with three (3) ten quart pails is not practical. The petitioner proposes to use two (2) fire extinguishers near the slope bottom and an additional portable fire extinguisher within 500 feet of the working face for equivalent fire protection for the N & L Slope Mine. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 4015 Wilson Boulevard, Room 627, Arlington, Virginia 22203. All comments must be postmarked or received in that office on or before April 22, 2002. Copies of these petitions are available for inspection at that address.

Dated at Arlington, Virginia this 15th day of March 2002.
Marvin W. Nichols, Jr.,
Director, Office of Standards, Regulations, and Variances.

[FR Doc. 02-6796 Filed 3-20-02; 8:45 am]

BILLING CODE 4510-43-P